SECURITIES AND EXCHANGE COMMISSION

Sunshine Act Meetings

FEDERAL REGISTER CITATION OF PREVIOUS ANNOUNCEMENT: 87 FR 6902, 7 February 2022.

PREVIOUSLY ANNOUNCED TIME AND DATE OF THE MEETING: Wednesday, February 9, 2022 at 10:00 a.m.

CHANGES IN THE MEETING: The following item will not be considered during the Open Meeting on Wednesday, February 9, 2022:

• The Commission will consider whether to propose amendments to its whistleblower rules.

CONTACT PERSON FOR MORE INFORMATION: For further information and to ascertain what, if any, matters have been added, deleted or postponed, please contact Vanessa A. Countryman from the Office of the Secretary at (202) 551-5400.

(Authority: 5 U.S.C. 552b.)

Dated: February 7, 2022.
Vanessa A. Countryman,
Secretary.

[FR Doc. 2022-02914 Filed 2-7-22; 4:15 pm]

BILLING CODE 8011-01-P